DEPARTMENT OF TRANSPORTATION

Federal Aviation Administration

14 CFR Part 39

[Docket No. FAA-2017-0157; Directorate Identifier 2016-CE-039-AD; Amendment 39-18965; AD 2017-15-05]

RIN 2120-AA64

Airworthiness Directives; Piper Aircraft, Inc. Airplanes

AGENCY: Federal Aviation Administration (FAA), DOT.

ACTION: Final rule.

SUMMARY: We are superseding Airworthiness Directive (AD) 69-13-03 for all Piper Aircraft, Inc. Models PA-23, PA-23-160, PA-23-235, PA-23-250, PA-E23-250, and PA-30 airplanes. AD 69-13-03 required inspection of the heater exhaust extension, replacement of the extension as necessary, and overhaul of the combustion heater assembly. This AD retains the inspection of the heater exhaust extension with replacement of the extension as necessary and removes the overhaul requirement of the combustion heater assembly. This AD was prompted by a recently issued AD that applies to the Meggitt (Troy), Inc. combustion heaters, and the combustion heater AD incorporates corrective actions for the heater that contradict the overhaul requirement of AD 69-13-03. We are issuing this AD to continue to address the unsafe condition on these products and avoid potential contradiction of actions.

DATES: This AD is effective August 28, 2017.

Examining the AD Docket

You may examine the AD docket on the Internet at http://www.regulations.gov by searching for and locating Docket No. FAA-2017-0157; or in person at the Docket Management Facility between 9 a.m. and 5 p.m., Monday through Friday, except Federal holidays. The AD docket contains this final rule, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Scott Hopper, Aerospace Engineer, FAA, Atlanta Aircraft Certification Office, 1701 Columbia Avenue, College Park, Georgia 30337; phone: (404) 474-5535; fax: (404) 474-5606; email: scott.hopper@faa.gov.

SUPPLEMENTARY INFORMATION:

Discussion

We issued a notice of proposed rulemaking (NPRM) to amend 14 CFR part 39 to supersede AD 69-13-03, Amendment 39-785 (34 FR 9748, June 24, 1969) as amended by AD 69-13-03, Amendment 39-1749 (38 FR 33765, December 7, 1973), (“AD 69-13-03”). AD 69-13-03 applied to certain Piper Aircraft, Inc. Models PA-23, PA-23-160, PA-23-235, PA-23-250, PA-E23-250, and PA-30 airplanes. AD 69-13-03 required inspection of the heater exhaust extension to determine if it is mild steel or stainless steel, repetitive inspections of the mild steel extensions for deterioration, replacement of the extension as necessary, and overhaul of the combustion heater assembly. AD 69-13-03 resulted from the potential of carbon monoxide entering the airplane cabin.

The NPRM was prompted by another AD action that applies to the Meggitt (Troy), Inc. combustion heaters installed on the airplanes AD 69-13-03 applied to. AD 2017-06-03; Amendment 39-18827 (82 FR 15988, March 31, 2017), which applies to the Meggitt combustion heaters incorporates corrective actions for the heater that contradict the overhaul requirement of AD 69-13-03. The NPRM proposed to retain certain requirements of AD 69-13-03 and remove the requirement for overhaul of the heater assembly. We are issuing this AD continue to address the unsafe condition on these products and avoid potential contradiction of actions.

Comments

We gave the public the opportunity to participate in developing this AD. One comment was received from Ahmed Ali who agrees with the AD action. The following presents the other comment received on the NPRM and the FAA's response to the comment.

Request To Withdraw NPRM

Jeff Aryan stated the AD is not necessary. The commenter has owned a Model PA-30 airplane for 25 years and does not believe heater fumes can enter the cabin. He has used the heater for prolonged periods of time, with and without the engine running, and has not experienced any problems. He stated the exhaust system was well designed and does not need to be changed. He believes owners are not maintaining their airplane to the regulations. We infer the commenter would like for us to withdraw the NPRM.

We disagree with this comment. The potential exists for carbon monoxide to enter the cabin when the mild steel exhaust extension deteriorates. The required actions of this AD will continue to address the unsafe condition.

We have not changed this AD based on this comment.

Conclusion

We reviewed the relevant data, considered the comments received, and determined that air safety and the public interest require adopting this AD as proposed except for minor editorial changes. We have determined that these minor changes:

• Are consistent with the intent that was proposed in the NPRM for correcting the unsafe condition; and

• Do not add any additional burden upon the public than was already proposed in the NPRM.

Costs of Compliance

We estimate that this AD affects 1,950 airplanes of U.S. registry.

We estimate the following costs to comply with this AD. The new requirements of this AD add no additional economic burden:

Estimated Costs
Action | Labor cost | Parts cost | Cost per product | Cost on U.S. operators
Determine installation of a mild steel or stainless steel heater exhaust extension | 1 work-hour × $85 per hour = $85 | N/A | $85 | $165,750

We estimate the following costs to do any necessary corrective actions that would be required based on the results of the inspection. We have no way of determining the number of airplanes that might need these corrective actions:

On-Condition Costs
Action | Labor cost | Parts cost | Cost per product
Inspection of mild steel heater exhaust extension | 1 work-hour × $85 per hour = $85 | Not applicable | $85
Replacement of heater exhaust extension | 1 work-hour × $85 per hour = $85 | * $1,000 | 1,085
Remove or disable the heater | 1 work-hour × $85 per hour = $85 | Not applicable | 85
* There are currently no replacement parts available for the heater exhaust extension. The $1,000 parts cost is the FAA's best estimate if parts were to become available.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 69-13-03, Amendment 39-785 (34 FR 9748, June 24, 1969) as amended by AD 69-13-03, Amendment 39-1749 (38 FR 33765, December 7, 1973), and adding the following new AD:

2017-15-05 Piper Aircraft, Inc.: Amendment 39-18965; Docket No. FAA-2017-0157; Directorate Identifier 2016-CE-039-AD.

(a) Effective Date

This AD is effective August 28, 2017.

(b) Affected ADs

This AD replaces Airworthiness Directive (AD) 69-13-03, Amendment 39-785 (34 FR 9748, June 24, 1969) as amended by AD 69-13-03, Amendment 39-1749 (38 FR 33765, December 7, 1973) (“AD 69-13-03”).

(c) Applicability

This AD applies to Piper Aircraft, Inc. Models PA-23, PA-23-160, PA-23-235, PA-23-250, PA-E23-250, and PA-30 airplanes, all serial numbers, certificated in any category.

(d) Subject

Joint Aircraft System Component (JASC)/Air Transport Association (ATA) of America Code 21, Air Conditioning.

(e) Unsafe Condition

This AD was prompted by the potential of carbon monoxide entering the airplane cabin. We are issuing this AD to prevent failure of the combustion heater exhaust extension, which could lead to carbon monoxide entering the airplane cabin.

(f) Compliance

Comply with this AD within the compliance times specified, unless already done.

(g) Mild Steel or Stainless Steel Exhaust Extension Determination

Within the next 25 hours time-in-service (TIS) after December 14, 1973 (the effective date retained from AD 69-13-03 as amended by AD 69-13-03, Amendment 39-785 (38 FR 33765, December 7, 1973)), remove the heater exhaust tube shroud and by means of a magnet determine if Stewart-Warner part number (P/N) 486238 exhaust extension (Piper P/N 754-708) is mild steel (magnetic) or stainless steel (non-magnetic). If the exhaust extension is stainless steel, then no further action is required by this AD.

(h) Mild Steel Exhaust Extensions

If there is a mild steel Stewart-Warner P/N 486238 exhaust extension (Piper P/N 754-708) installed on the airplane, within 25 hours TIS after August 28, 2017 (the effective date of this AD), you must do one of the following actions found in paragraph (h)(1) through (3) of this AD.

(1) Replace the mild steel exhaust extension with a stainless steel exhaust extension.

(2) Visually inspect the mild steel exhaust extension for deterioration (cracks, corrosion, rust, and/or flaking) and repetitively thereafter visually inspect the exhaust extension at intervals not to exceed 25 hours TIS or until the mild steel exhaust extension is replaced with a stainless steel exhaust extension.

(3) Disable or remove the combustion heater.

(i) Deterioration of the Mild Steel Exhaust Extension

If deterioration (cracks, corrosion, rust, and/or flaking) of the extension is found during any of the inspections required in paragraph (h)(2) of this AD, before further flight, you must do one of the following actions in paragraph (i)(1) or (2) of this AD.

(1) Replace the exhaust extension with a stainless steel exhaust extension or a mild steel P/N 486238 exhaust extension that has been inspected per paragraph (h)(2) of this AD and was found free of deterioration. If you install a mild steel P/N 486238 exhaust extension, you must continue the repetitive visual inspections required in paragraph (h)(2) of this AD.

(2) Disable or remove the heater.

(j) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD.

(2) Before using any approved AMOC, notify your appropriate principal inspector, or lacking a principal inspector, the manager of the local flight standards district office/certificate holding district office.

(3) AMOCs approved for paragraphs (a) and (b) of AD 69-13-03 are approved as AMOCs for the corresponding provisions of this AD.

(k) Related Information

For more information about this AD, contact Scott Hopper, Aerospace Engineer, FAA, Atlanta Aircraft Certification Office, 1701 Columbia Avenue, College Park, Georgia 30337; phone: (404) 474-5535; fax: (404) 474-5606; email: scott.hopper@faa.gov.

Issued in Kansas City, Missouri, on July 12, 2017.
Pat Mullen,
Acting Manager, Small Airplane Directorate, Aircraft Certification Service.

[FR Doc. 2017-15213 Filed 7-21-17; 8:45 am]

BILLING CODE 4910-13-P